DEPARTMENT OF LABOR

Employment and Training Administration

[TA-W-80,511]

Specialty Bar Products Company,a Subsidiary of Doncasters, Inc., Blairsville, PA; Notice of Affirmative Determination Regarding Application for Reconsideration

By application dated January 12, 2012, three workers requested administrative reconsideration of the negative determination regarding workers' eligibility to apply for Trade Adjustment Assistance (TAA) applicable to workers and former workers of Specialty Bar Products Company, a subsidiary of Doncasters, Inc., Blairsville, Pennsylvania (subject firm). The determination was issued on December 16, 2011. The Department's Notice of determination was published in the Federal Register on December 29, 2011 (76 FR 81989). The workers were engaged in activities related to the production of pins, bushings, and gun blanks.

The initial investigation resulted in a negative determination based on the findings that the subject firm did not shift the production of pins, bushings, gun blanks (or like or directly competitive articles) to a foreign country or acquire the production of such articles from a foreign country. The investigation also revealed that neither the firm nor their customers imported articles like or directly competitive with those produced by the subject firm.

The investigation also revealed that with respect to Section 222(b)(2) of the Act, the subject firm is neither a Supplier nor Downstream Producer to a firm that employed a group of workers who received a certification of eligibility under Section 222(a) of the Act, 19 U.S.C. 2272(a).

In the request for reconsideration, the petitioner supplied new information regarding additional customer information. The Department of Labor has carefully reviewed the request for reconsideration and the existing record, and has determined that the Department will conduct further investigation to determine if the petitioning worker group at the subject firm meet the eligibility requirements of the Trade Act of 1974.

Conclusion

After careful review of the application, I conclude that the claim is of sufficient weight to justify reconsideration of the U.S. Department of Labor's prior decision. The application is, therefore, granted.

Signed at Washington, DC, this 25th day of January, 2012.
Del Min Amy Chen,
Certifying Officer, Office of Trade Adjustment Assistance.

[FR Doc. 2012-2885 Filed 2-7-12; 8:45 am]

BILLING CODE 4510-FN-P